DEPARTMENT OF THE INTERIOR

Fish and Wildlife Service

[FWS-R9-R-2011-N082; 93261-1263-0000-4A]

Information Collection Request Sent to the Office of Management and Budget (OMB) for Approval; National Wildlife Refuge Special Use Permit Applications and Reports

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. This information collection is scheduled to expire on April 30, 2011. We may not conduct or sponsor and a person is not required to respond to a collection of information unless it displays a currently valid OMB control number. However, under OMB regulations, we may continue to conduct or sponsor this information collection while it is pending at OMB.

DATES: You must submit comments on or before May 27, 2011.

ADDRESSES: Send your comments and suggestions on this information collection to the Desk Officer for the Department of the Interior at OMB-OIRA at (202) 395-5806 (fax) or OIRA_DOCKET@OMB.eop.gov (e-mail). Please provide a copy of your comments to the Service Information Collection Clearance Officer, U.S. Fish and Wildlife Service, 4401 North Fairfax Drive, M/S 2042-PDM, Arlington, VA 22203 (mail), or INFOCOL@fws.gov (e-mail). Please include 1018-0102 in the subject line of your comments.

FOR FURTHER INFORMATION CONTACT: To request additional information about this ICR, contact Hope Grey at INFOCOL@fws.gov (e-mail) or 703-358-2482 (telephone). You may review the ICR online at http://www.reginfo.gov. Follow the instructions to review Department of the Interior collections under review by OMB.

SUPPLEMENTARY INFORMATION:

OMB Control Number: 1018-0102.

Title: National Wildlife Refuge Special Use Permit Applications and Reports, 50 CFR 25, 26, 27, 29, 30, 31, 32, and 36.

Service Form Numbers: FWS Form 3-1383-G; FWS Form 3-1383-C, and FWS Form 3-1383-R.

Description of Respondents: Individuals and households; businesses and other for-profit organizations; nonprofit organizations; farms; and State, local, or Tribal governments.

Respondent's Obligation: Required to obtain or retain a benefit.

Frequency of Collection: On occasion.

Activity | Number of respondents | Number of responses | Completion time per response | Total annual burden hours
Form 3-1383-G | 13,500 | 13,500 | ½ hour | 6,750
Form 3-1383-C | 1,200 | 1,200 | 4 hours | 4,800
Form 1383-R | 300 | 300 | 4 hours | 1,200
Activity Reports | 600 | 600 | ½ hour | 300
Totals | 15,600 | 15,600 |  | 13,050

Estimated Annual Nonhour Burden Cost: $120,000 for fees associated with applications for commercial use activities.

Abstract: The administration and uses of national wildlife refuges and wetland management districts are governed by the:

• National Wildlife Refuge System Administration Act of 1966 (16 U.S.C. 668dd-668ee) (Administration Act), as amended by the National Wildlife Refuge System Improvement Act of 1997.

• Refuge Recreation Act of 1962 (16 U.S.C. 460k-460k-4) (Recreation Act).

• Alaska National Interest Lands Conservation Act (16 U.S.C. 3101 et seq.) (ANILCA).

The Administration Act consolidated all of the different refuge areas into a single National Wildlife Refuge System (System). It also authorizes us to permit public accommodations, including commercial visitor services, on lands of the System when we find that the activity is compatible and appropriate with the purpose for which the refuge was established. The Recreation Act allows the use of refuges for public recreation when it is not inconsistent or does not interfere with the primary purpose(s) of the refuge.

ANILCA provides specific authorization and guidance for the administration and management of national wildlife refuges within the State of Alaska. Its provisions provide for the issuance of permits by the System under certain circumstances.

We issue special use permits for a specific period as determined by the type and location of the use or visitor service provided. These permits authorize activities such as:

• Agricultural activities (haying and grazing, 50 CFR 29.1, 29.2 and 29.3).

• Beneficial management tools that we use to provide the best habitat possible on some refuges (50 CFR 30.11, 31.14, 31.16, and 36.41).

• Special events, group visits and other one-time events (50 CFR 25.41, 26.36, 25.61, and 36.41).

• Recreational visitor service operations (50 CFR 25.41, 25.61 and 36.41).

• Guiding for fishing, hunting, wildlife education, and interpretation (50 CFR 25.41 and 36.41).

• Commercial filming (50 CFR 27.71) and other commercial activities (50 CFR 29.1 and 36.41).

• Building and using cabins to support subsistence or commercial activities (in Alaska) (50 CFR 26.35, and 36.41).

• Research, inventory and monitoring, and other noncommercial activities (50 CFR 26.36 and 36.41).

Previously, we used FWS Form 3-1383 (Special Use Application and Permit) for all activities. However, experience has indicated that some types of activities, such as commercial use or research, require that we collect detailed information on the specific activity so that we can effectively manage the numerous uses of System lands. During the renewal process for this information collection, we realized that many refuges were collecting information not approved under the current collection. We are proposing three forms to correct this situation:

• FWS Form 3-1383-G (General Special Use Application and Permit).

• FWS Form 3-1383-C (Commercial Activities Special Use Application and Permit).

• FWS Form 3-1383-R (Research and Monitoring Special Use Application and Permit).

You may review the above forms and other documents associated with this information collection at http//:www.reginfo.gov.

The forms will serve as both the application and permit. They will not change the permitting process or what activities require a permit. They have been developed to ensure that:

• Applicants are aware of the types of information that may be needed for permit issuance and that the collection of this information is approved as required by the Paperwork Reduction Act of 1995.

• Requested activities are compatible and appropriate with the purpose(s) for which the refuge was established.

• Applicant is eligible or is the most qualified applicant to receive the special use permit.

We collect the necessary information in form and nonform format (through discussions in person or over the phone, over the Internet, by e-mail, or by letter). In some instances, respondents will be able to provide information verbally. Often, a simple e-mail or letter describing the activity will suffice. For activities (e.g., commercial visitor services, research, etc.) that might have a large impact on refuge resources, we may require applicants to provide more detail on operations, techniques, and locations. Because of the span of activities covered by special use permits and the different management needs and resources at each refuge, respondents may not be required to answer all questions. Depending on the requested activity, refuge managers will have the discretion to ask for less information than appears on the proposed forms. However, refuge managers cannot ask for more or different information.

We issue permits for a specific period as determined by the type and location of the use or service provided. We use these permits to ensure that the applicant is aware of: (1) The requirements of the permit, and (2) his/her legal rights. Refuge-specific special conditions may be required for the permit. We identify conditions as an addendum to the permit. Most of the special conditions pertain to how a permitted activity may be conducted and do not require the collection of information. However, some special conditions, such as activity reports, before and after site photographs, or data sharing, would qualify as an information collection, and we have included the associated burden in the information collection request.

On November 29, 2010, we published a notice in the Federal Register (75 FR 73119) announcing our intent to request renewal of this information collection. We solicited public comment for 60 days, ending on January 28, 2011. We received comments from three individuals.

Comment 1: The U.S. Fish and Wildlife Service may require sufficiently detailed information to ensure requested activities are consistent with the National Wildlife Refuge System Administration Act, and that specifically tailored permit applications can theoretically reduce the burden on the applicant and expedite the permitting process. However, the extensive list of information associated with the Research Special Use Application and Permit is significantly greater than the requirements represented in the current FWS Form 3-1383. Conversely, there are no information requirements listed for the Commercial Special Use Application and Permit, making it unclear as to why the Service determined a separate form is necessary. Considering the importance of research and the significant role that commercial guiding, visitor services and cabins serve in the public's ability to access and experience Alaska's remote refuges, there is a need to ensure that information requests are appropriate and do not create an undue burden to applicants. The Service should disclose information requirements for both new forms, along with supporting rationale and an explanation as to why the current form will not suffice. Draft forms and accompanying instructions should be made available for public review.

Response: The list of information collection requirements published in the 60-day notice (75 FR 73119) pertains to all three proposed forms, not just the proposed Research and Monitoring Special Use Application and Permit.

Prior to November 2009, Alaska refuges used FWS Form 3-2001 (approved under OMB Control No. 1018-0014) as the special use application. OMB Control No. 1018-0014 was discontinued in November 2009, and the Alaska refuges began using FWS Form 3-1383 (approved under OMB Control No. 1018-0102), which is the special use application used by refuges in the contiguous United States. During the renewal process, we discovered that the current FWS Form 3-1383 is inadequate for the many types of permitted activities, which has resulted in several situations where unauthorized information collections have taken place, both in Alaska and the rest of the States.

We have made every effort to carefully craft the new forms so that they are targeted to specific uses and only collect information that is necessary to manage and protect refuge resources. We designed the forms for use by all refuges in the National Wildlife Refuge System. The proposed forms ask for information that refuges need to manage the full span of uses that the public may need. The forms also allow refuge manager discretion as to what specific information is required. We can ask for less information than requested on the forms, but cannot ask for more or different information. This discretion will lessen the burden on applicants. The proposed forms encourage applicants to contact the appropriate refuge to determine exactly what information is required.

We sent draft forms to the two commenters from Alaska and made extensive changes to the forms based on their input. In addition, this Federal Register notice provides the public an additional opportunity to review and comment on the forms.

Comment 2: Regarding research conducted by the State fish and wildlife agencies, including the Alaska Department of Fish and Game, the Service should acknowledge that State fish and wildlife and other administrative actions are exempt from this information collection process. The States, including Alaska under ANILCA 1314 and 43 CFR part 24, need not apply for special use permits from the Service when conducting routine activities covered under a valid cooperative agreement.

Response: We agree with this comment. This information collection request does not change when a special use permit is required; it only pertains to what information we can collect when a permit is necessary.

Comment 3: In designated Wilderness Areas, a minimum requirement analysis may be necessary for activities generally prohibited under the Wilderness Act; however, this process is distinct from a special use permit.

Response: We agree with this comment. We will conduct the minimum requirement analysis as part of our permit review process.

Comment 4: The Citizens' Advisory Commission on Federal Areas believes strongly that permits for the use of public lands and resources should be required only when and where absolutely necessary. The Commission recognizes that permits are appropriate for certain activities and can be an important management tool, and supports any action that reduces the amount of paperwork necessary to secure those permits.

Response: We agree and will issue the permits only when required by statute or regulation.

Comment 5: Although the current proposal would increase the number of forms from one to three, it appears that, depending on the activity being permitted, information requirements can be focused more narrowly than is possible with the existing application form. One problem with the Alaska form was that applicants were required to provide information that was unnecessary or irrelevant to the activity being permitted. Requiring an applicant to submit only pertinent information eases the burden on the public. While there may have been problems with the Alaska application form, replacing that form with the more generalized versions could result in similar unnecessary information requests and additional burdens to the public unless those forms are carefully crafted.

Response: Please see our response to Comment 1.

Comment 6: ANILCA provides specific authorization and guidance for the management of refuges in Alaska. The statutory provisions in ANILCA are implemented, in part, by the regulations at 50 CFR 36.41. The information requests included in any revised application form for a special use permit on an Alaskan refuge must incorporate the guidance found in these regulations. The need for any additional information or reporting requirements must be fully supported.

Response: The information collected on the proposed forms is consistent with the regulations implementing ANILCA.

Comment 7: The regulations at 50 CFR 36.41(d)(2) allow an applicant for a noncompetitively issued permit to present an application verbally. The application process must continue to accommodate verbal applications as provided for in the regulations.

Response: We agree and have added instructions on the form that an application may be made verbally. The new forms will not change the application process or regulatory requirements. We are proposing these forms to ensure that the information we collect is approved in accordance with the Paperwork Reduction Act of 1995.

Comment 8: Other Alaska specific regulations at 50 CFR 36.31, 36.32, 36.33, 36.37, and 36.39 provide some of the authorities and procedures for allowing permits on refuges. Any information requests associated with the new forms must be limited to that necessary to meet the requirements in these regulations for refuges in Alaska.

Response: We agree and will collect only the minimum information necessary to issue the requested permit in accordance with applicable regulations.

Comment 9: It is difficult to fully assess the full benefits from this proposal without being able to review the actual application forms and associated questions. Information in the Federal Register (75 FR 73119) provides only a partial list of the types of information to be collected, and only a few specific examples of which application form will be used to permit a particular activity. For example, the Commercial Special Use Application and Permit is proposed to be used for permitting recreational visitor service operations and building and using cabins to support subsistence or commercial activities in Alaska. The information that an applicant should be reasonably expected to provide to construct or use a cabin for subsistence activities would be significantly different than that necessary to construct a cabin to support a commercial activity.

Response: We sent draft forms to the two commenters from Alaska and made extensive changes to the forms based on their input. We have developed form-specific instructions that provide discretion for refuge managers on what specific information will be required for each use.

Comment 10: How will an applicant be advised of what information is required for their application? Is this left to the individual refuge manager or will there be national or regional guidance provided? Will instructions for completing the application be provided to the applicant? There have been situations in Alaska where applicants seeking permits for the same activity in more than one refuge are required to provide different types of information to each refuge. While refuge managers may have different management needs and requirements, lack of uniformity can increase the information collection burden on applicants. Clear guidance should be provided to Regional Offices and individual refuge managers to avoid confusion and prevent arbitrary and unnecessary information collection.

Response: We urge applicants, both on our Web sites and on the proposed forms, to contact the appropriate refuge to determine what information they need to submit for their desired permit. There are instructions and explanations on each form, but the forms are designed to cover many activities on all of our refuges. Depending on the activity requested and the differing management needs of refuges, there may be instances where an applicant has to submit more or less information for the same activity. These instances should be minimal, and, in no case, can a refuge manager ask for information that is not on the application. Rather than following a “one form fits all approach,” we believe that allowing refuge managers the discretion to determine the level of information necessary to issue the permit will result in reducing the burden for applicants. If OMB approves the three proposed forms, we will issue guidance to Regional Offices and refuge managers that: (1) they must collect only the minimum information necessary to determine whether or not to issue a permit, and (2) they cannot collect any information that is not on the approved forms.

Comment 11: Grazing is never beneficial to wildlife, and no agricultural activity should be allowed on national wildlife refuges. Guides should not be allowed on national wildlife refuges. Taking people out to kill wildlife should not happen.

Response: The Administration Act authorizes us to permit public accommodations, including commercial visitor services, on lands of the System when we find that the activity is compatible and appropriate with the purpose for which the refuge was established. While we appreciate the views of the respondent, the comment did not address the information collection requirements. We did not make any changes to our information collection request based on this comment.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: April 21, 2011.
Tina A. Campbell,
Chief, Division of Policy and Directives Management, U.S. Fish and Wildlife Service.

[FR Doc. 2011-10167 Filed 4-26-11; 8:45 am]

BILLING CODE 4310-55-P